DEPARTMENT OF ENERGY

Federal Energy Regulatory Commission

[Docket No. IN01-1-001]

Columbia Gas Transmission Corporation, Columbia Gulf Transmission Company; Notice of Refund and Disgorgement Report

January 30, 2001.

Take notice that on December 12, 2000, Columbia Gas Transmission Corporation and Columbia Gulf Transmission Company (the Companies) filed a Refund and Disgorgement Report pursuant to a Stipulation and Consent Agreement in resolution of Docket No. IN01-1-000. Part IV, Para. 2 of the Stipulation required the Companies to file the report with the Commission 30 days after Columbia Gas and Columbia Gulf discharged their refund and disgorgement obligation.

The Companies states that the report sets forth the amount that each party will receive as either a refund or disgorgement and the date of payment.

Any person desiring to protest said filing should file a protest with the Federal Energy Regulatory Commission, 888 First Street, NE., Washington, DC 20426, in accordance with Section 385.211 of the Commission's Rules and Regulations. All such protests must be filed on or before February 5, 2001. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

David P. Boergers,
Secretary.

[FR Doc. 01-2923 Filed 2-2-01; 8:45 am]

BILLING CODE 6717-01-M